NUCLEAR REGULATORY COMMISSION

[Docket Nos. 50-327-LR and 50-238-LR; ASLBP No. 13-927-01-LR-BD01]

Tennessee Valley Authority (Sequoyah Nuclear Plant, Units 1 and 2)

Notice of Atomic Safety and Licensing Board Reconstitution

Pursuant to 10 CFR 2.313(c) and 2.321(b), the Atomic Safety and Licensing Board in the above-captioned Sequoyah Nuclear Plant, Units 1 and 2 license renewal proceeding is hereby reconstituted by appointing Administrative Judge Paul S. Ryerson to serve as Chairman in place of Administrative Judge Alex S. Karlin, and by appointing Administrative Judge Michael F. Kennedy to serve in place of Administrative Judge Paul B. Abramson.

All correspondence, documents, and other materials shall continue to be filed in accordance with the NRC E-Filing rule. See 10 CFR 2.302 et seq.

Issued at Rockville, Maryland, this 16th day of January 2015.
E. Roy Hawkens,
Chief Administrative Judge, Atomic Safety and Licensing Board Panel.

[FR Doc. 2015-01179 Filed 1-22-15; 8:45 am]

BILLING CODE 7590-01-P